DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency has submitted the following proposed information collection to the Office of Management and Budget (OMB) for review and clearance in accordance with the requirements of the Paperwork Reduction Act of 1995 (44 U.S.C. 3507).

The submission describes the nature of the information collection, the categories of respondents, the estimated burden (i.e., the time, effort and resources used by respondents to respond) and cost, and includes the actual data collection instruments FEMA will use.

Title: EMI Independent Study Course Enrollment Application.

Type of Information Collection: Revision of a currently approved collection.

OMB Number: 1660-0046.

Form: FEMA Form 95-23.

Abstract: The purpose of this form is to collect information from individuals on what Independent Study courses they wish to enroll in. This form lists the courses available through FEMA's Independent Study Program and collects information from individuals so that these courses can be mailed to them.

Affected Public: Individuals or households.

Number of Respondents: 187,000.

Estimated Time per Respondent: 1 minute or .016666 hour.

Estimated Total Annual Burden Hours: 3,116 hours.

Frequency of Response: Other—As needed for participants to enroll in Independent Study courses.

Cost to Respondents: Annualized cost to all respondents is estimated at $81,937. This figure is composed of two items: $54,261 corresponding to the time spent completing the form at the national mean hourly rate of $17.41 and $27,676 comprising the cost of a regular postage stamp of $0.37 for 74,800 respondents (40% of applications) who chose to apply via mail.

Comments: Interested persons are invited to submit written comments on the proposed information collection to the Office of Information and Regulatory Affairs at OMB, Attention: Desk Officer for the Emergency Preparedness and Response Directorate/Federal Emergency Management Agency, Department of Homeland Security, 725 17th Street, NW., Docket Library Room 10102, Washington, DC 20503. Comments must be submitted on or before July 15, 2004. In addition, interested persons may also send comments to FEMA (see contact information below).

FOR FURTHER INFORMATION CONTACT: Requests for additional information or copies of the information collection should be made to Muriel B. Anderson, Chief, Records Management, FEMA at 500 C Street, SW., Room 316, Washington, DC 20472, facsimile number (202) 646-3347, or e-mail address FEMA-Information-Collections@dhs.gov.

Dated: June 2, 2004.
Edward W. Kernan,
Branch Chief, Information Resources Management Branch, Information Technology Services Division.

[FR Doc. 04-13456 Filed 6-14-04; 8:45 am]

BILLING CODE 9110-17-P